DEPARTMENT OF HEALTH AND HUMAN SERVICES

Centers for Disease Control and Prevention

[30Day-07-06AV]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-6974. Written comments should be received within 30 days of this notice.

Proposed Project

Occupational Safety and Health Information Needs and Uses By Trade Associations and Labor Unions Within Eight Industrial Sectors—New—National Institute for Occupational Safety and Health (NIOSH), Centers for Disease Control and Prevention (CDC).

Background and Brief Description

As mandated in the Occupational Safety and Health Act of 1970 (Pub. L. 91-596), the mission of NIOSH is to conduct research and investigations on work-related disease and injury and to disseminate information for preventing identified workplace hazards (Sections 20(a)(1) and (d)). Through the development, organization, and dissemination of information, NIOSH promotes awareness about occupational hazards and their control, and improves the quality of American working life.

Previous research has shown that trade associations and labor unions are primary sources of occupational safety and health (OSH) information. These organizations know the industries they represent and how to relate to the various groups within their respective industries. If NIOSH could learn more about the OSH-related activities of these organizations, it would be a first step in routinely partnering with them to communicate information which impacts worker safety and health. For example, through these organizations NIOSH could learn about unmet occupational safety and health information needs in industry and develop information and communication products to address these needs. Furthermore, with more focused information on the safety and health issues, NIOSH would be in a better position to develop impact communication products to serve this community.

NIOSH proposes to obtain OSH information from trade associations and labor unions that represent each of the eight NIOSH National Occupational Research Agenda (NORA) industry sectors. These sectors are Agriculture, Forestry, and Fishing; Mining; Construction; Manufacturing; Wholesale and Retail Trade; Transportation and Utilities; Public and Private Services; and Healthcare and Social Assistance Industries. The goals of this project are to determine (1) Sources of occupational safety and health (OSH) information currently used by the different sector trade associations and labor unions, (2) OSH information presently being disseminated by these different trade associations and labor unions to their members, (3) channels of communication within the different sector associations and unions used to disseminate OSH information, (4) needs for specific types of OSH information, especially those needs not presently being serviced, (5) OSH concerns of industry trade associations and labor unions, (6) awareness and perception of NIOSH as a source of OSH information, (7) use of NIOSH information services (Web site, printed materials, 800 number, etc.), (8) usefulness of NIOSH information to address their OSH concerns and (9) credibility of NIOSH as a trusted source of occupational safety and health information. The ultimate desired outcome of this project is to reduce illness and injury for workers on jobs and tasks which pose high risks. Occupational Safety and Health information will be collected from a sample of trade associations and labor unions for each of the NORA industry sectors using a telephone survey. NIOSH requests approval from OMB for eighteen months for this information collection.

To facilitate the survey, NIOSH will interact with trade association and labor organization staff within the industry sectors to ensure that (1) the survey questions developed appropriately capture the needed information, (2) the survey is well received and (3) that the data obtained is representative of the full range of occupations within the targeted industry sectors. These interactions will be structured to foster professional relationships that will improve NIOSH's future communication and information dissemination efforts to these important partners. The process of interacting and surveying the trade associations and labor unions will allow NIOSH to develop a benchmark against which future efforts in partnership and communication can be measured. Working cooperatively on new solutions and distribution of future communication products will promote cooperation and trust between NIOSH and trade and labor groups for the future. The total estimated annualized burden hours are 376. There is no cost to respondents for participation in the survey except their time.

Estimated Annualized Burden Hours
Type of respondent | Form name | Number of respondents | Number of responses per respondent | Average burden hours per response (in hours) | Response burden
Health & safety personnel | Full form | 1455 | 1 | 15/60 | 364
Health & safety personnel | Non-response form | 357 | 1 | 2/60 | 12

Dated: April 6, 2007.
Joan F. Karr,
Acting Reports Clearance Officer, Centers for Disease Control and Prevention.

[FR Doc. E7-6912 Filed 4-11-07; 8:45 am]

BILLING CODE 4163-18-P